DEPARTMENT OF TRANSPORTATION

Federal Aviation Administration

Notice of Availability of a Draft Environmental Assessment

AGENCY: Federal Aviation Administration (FAA), DOT.

ACTION: Notice of Availability of a Draft Environmental Assessment for the construction and operation of a replacement aerial tramway on South Franklin Mountain, El Paso, Texas.

SUMMARY: The Federal Aviation Administration (FAA) proposes to fund, construct, operate, and maintain a replacement aerial tramway (ATRAM) system on South Franklin Mountain, El Paso, Texas. The purpose of the proposed project is the replacement of the existing ATRAM with a modern ATRAM system. The FAA needs to continue the safe and reliable transport of FAA maintenance personnel to service communication facilities located at the top of South Franklin Mountain. The FAA's preferred alternative is to construct, operate, and maintain a replacement ATRAM at a location adjacent to the existing ATRAM system at South Franklin Mountain, El Paso, Texas.

The FAA has prepared a Draft Environmental Assessment (DEA) in conformance with the requirements of the National Environmental Policy Act of 1969 (NEPA) and FAA Order 1050.1E, Environmental Impacts: Policies and Procedures. The DEA analyzes the potential environmental impacts that may result from construction and operation of the proposed replacement ATRAM system at the proposed site, as well as the no action alternative (i.e., not constructing and operating the replacement ATRAM).

DATES: The FAA will accept written comments on the DEA until close of business on July 29, 2013.

ADDRESSES: The DEA is available for public review during a 30-day public comment period at the following libraries:

El Paso Main Library, 501 North Oregon Street, El Paso, TX 79901.

Richard Burges Branch Library, 9600 Dyer St., El Paso, TX 79924.

Written comments on the DEA may be sent to: Ms. Virginia Marcks, FAA, AJW-C15H, 2300 East Devon Ave., Des Plaines, IL 60018, fax 847-294-7698, email virginia.marcks@faa.gov. Copies of the Draft EA on compact disk may be obtained by contacting Ms. Virginia Marcks. Comments received on the DEA during the public comment period will be addressed in the Final Environmental Assessment.

FOR FURTHER INFORMATION CONTACT: Ms. Virginia Marcks, Manager, Infrastructure Engineering Center, Federal Aviation Administration, 2300 East Devon Avenue, Des Plaines, Illinois 60018. Telephone number: 847-294-7494. Email: virginia.marcks@faa.gov.

Issued in Des Plaines, Illinois, June 18, 2013.
Virginia Marcks,
Manager, Infrastructure Engineering Center, Chicago, AJW-C15H, Central Service Area.

[FR Doc. 2013-15134 Filed 6-24-13; 8:45 am]

BILLING CODE 4910-13-P